DEPARTMENT OF THE INTERIOR

National Park Service

National Register of Historic Places; Notification of Pending Nominations and Related Actions

Nominations for the following properties being considered for listing or related actions in the National Register were received by the National Park Service before June 10, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by July 10, 2006.

John W. Roberts,
Acting Chief, National Register/National Historic Landmarks Program.

CALIFORNIA

Alameda County

Havens, Weston, House, 255 Panoramic Way, Berkeley, 06000611

Ladies' Relief Society Children's Home, 365 45th St., Oakland, 06000612

San Diego County

Los Penasquitos Historic and Archeological District, 12020 Black Mountain Rd., San Diego, 06000613

CONNECTICUT

Hartford County

West Boulevard Historic District, Roughly along Rodney St., and West Boulevard, Hartford, 06000615

New Haven County Schlaraffia Burg, 715 Sherman Pkwy—280 W. Hazel St., New Haven, 06000616

FLORIDA

Broward County

South Side School, 701 S. Andrews Ave., Fort Lauderdale, 06000617

Leon County

Florida Governor's Mansion, 700 N. Adams St., Tallahassee, 06000618

Martin County

Georges Valentine Shipwreck Site, Offshore of the House of Refuge, Stuart, 06000619

Okaloosa County

Crestview Commercial Historic District, Roughly bounded by Industrial Dr., N. Ferdon Blvd., N. Wilson St., and James Lee Blvd., Crestview, 06000620

KANSAS

Ellis County

Chestnut Street Historic District, Main, W. 9th, W 10th, 11th, E 11th, E. 12th Sts., Hays, 06000621

Franklin County

Historic Ottawa Central Business District, Roughly bounded by Marias des Cygnes R., S 5th St., Walnut St. and Hickory St., Ottawa, 06000622

Geary County

Junction City Downtown Historic District, Roughly both sides of Washington Ave., from 6th to 9th Sts., Junction City, 06000623

Montgomery County

Independence Downtown Historic District, Chestnut, Laurel, Myrtle, Main, Maple bet. 5th and 9th, Independence, 06000624

Sedgwick County

Metholatum Company Building, 1300 E Douglas, Wichita, 06000625

MICHIGAN

Keweenaw County

Passage Island Light Station, (Light Stations of the United States MPS) SW end of Passage Is., 3.25 mi NE of Isle Royale, in NW Lake Superior, Houghton Township, 06000632

MISSOURI

Buchanan County

Mount Mora Cemetery, 824 Mount Mora Rd., St. Joseph, 06000626

Howard County

Hickman, Thomas, House, 10 Research Center Rd., New Franklin, 06000627

St. Louis Independent City

Pevely Dairy Company Buildings, 3301 and 3305 Park Ave., St. Louis (Independent City), 06000628

Polar Wave Ice and Fuel Company, Plant No. 6, 502 LaSalle St., St. Louis (Independent City), 06000629

NEW JERSEY

Cumberland County

Ship John Shoal Light Station, (Light Stations of the United States MPS) In Delaware Bay, 3.3 mi. W-SW of Sea Breeze, Sea Breeze, 06000630

Hudson County

Robbins Reef Light Station, (Light Stations of the United States MPS) SW Upper New York Bay, 2.6 mi. SE of I-78 Interchange 14A, Bayonne, 06000631

NEW MEXICO

Bernalillo County

Huning Highlands Conoco Service Station, (Auto-oriented Commercial Development in Albuquerque MPS) 601 Coal Ave. SE, Albuquerque, 06000633

Lea County

Sewalt, Mathew Elmore, House, 121 E. Jefferson Ave., Lovington, 06000634

NEW YORK

Suffolk County

Latimer Reef Light Station, (Light Stations of the United States MPS) In Fisher's Island Sound, one mi NW of East Point on Fisher's Island, Fisher's Island, 06000635

NORTH DAKOTA

Burleigh County

Grady, Fred and Gladys, House, (Nonpartisan League's Home Building Association Resources in North Dakota MPS) 414 East Avenue F, Bismarck, 06000636

Lundquist, Oliver and Gertrude, House, (Nonpartisan League's Home Building Association Resources in North Dakota MPS) 622 W. Thayer St., Bismarck, 06000637

WISCONSIN

Door County

IRIS (Shipwreck), (Great Lakes Shipwreck Sites of Wisconsin MPS) Adjacent of Rock Island Ferry Dock, Jackson Harbor, Washington, 06000638

OCEAN WAVE (Shipwreck), (Great Lakes Shipwreck Sites of Wisconsin MPS) 2 mi. off Whitefish Point, Lake Michigan, 06000639

A request for REMOVAL has been made for following resource:

TENNESSEE

Hamilton County

Hardy, Richard, Junior High School (Hunt, Reuben H., Buildings in Hamilton County TR) 2115 Dodson Ave. Chattanooga, 80003812

Newton Chevrolet Building 329 Market St. Chattanooga, 73001775

Park Hotel 117 E. 7th St. Chattanooga, 8003821

Thomas, Benjamin F., House 938 McCallie Ave. Chattanooga, 80003825

[FR Doc. E6-9915 Filed 6-22-06; 8:45 am]

BILLING CODE 4312-51-P